ENVIRONMENTAL PROTECTION AGENCY

[FRL-7426-7]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at 566-1672, or email at Auby.susan@epa.gov, and please refer to the appropriate EPA Information Collection Request (ICR) Number.

SUPPLEMENTARY INFORMATION:

OMB Responses to Agency Clearance Requests

OMB Approvals

EPA ICR No. 1745.04; Criteria for Classification of Solid Waste Disposal Facilities and Practices; in 40 CFR part 257; was approved 11/20/2002; OMB No. 2050-0154; expires 011/30/2005.

EPA ICR No. 0262.10; RCRA Hazardous Waste Permit Application and Modification, Part A; in 40 CFR parts 270.11, 270.13, 270.70, 270.72; was approved 11/20/2002; OMB No. 2050-0034; expires 11/30/2005.

EPA ICR No. 1871.03; National Emission Standards for Hazardous Air Pollutants for Source Categories: Generic Maximum Achievable Control Technology; in 40 CFR part 63, subpart YY; was approved 12/04/2002; OMB No. 2060-0420; expires 12/31/2005.

EPA ICR No. 1286.06; Used Oil Management Standards Recordkeeping and Reporting Requirements; in 40 CFR parts 279.10, 279.11, 279.42, 279.43, 279.44, 279.52, 279.53, 279.54, 279.55, 279.57, 279.63 and 279.82; was approved 12/04/2002; OMB No. 2050-0124; expires 12/31/2005.

EPA ICR No. 1964.02; Reporting & Recordkeeping Requirements of the National Emission Standard for Hazardous Air Pollutants from Wet-formed Fiberglass Mat Production Industry; in 40 CFR part 63, subpart A, and 40 CFR part 63, subpart HHHH; was approved 12/09/2002; OMB No. 2060-0496; expires 12/31/2005.

EPA No. 1361.09; Information Requirements for Boilers and Industrial Furnaces: General Hazardous Waste Facility Standards, Specific Unit Requirements, & Part B Permit Application and Modification Requirements; was approved 12/09/2002; OMB No. 2050-0073; expires 12/31/2005.

Short Term Extensions

EPA ICR No. 1062.07; NSPS for Coal Preparation Plants; in 40 CFR part 60, subpart Y OMB No. 2060-0122; on 11/25/2002 OMB extended the expiration date through 02/28/2003.

Withdrawn

EPA ICR No. 2057.01; Eliciting Risk Tradeoffs for Valuing Fatal Cancer Risks; on 11/25/2002 EPA withdrew the information collection request from OMB review.

Comment Filed

EPA ICR No. 2040.01; Recordkeeping and Reporting Requirements for the Refractory Products Manufacturing NESHAP; in 40 CFR part 63, subpart SSSSS, on 12/09/2002 OMB filed a comment.

Dated: December 17, 2002.
Oscar Morales,
Director, Collection Strategies Division.

[FR Doc. 02-32394 Filed 12-23-02; 8:45 am]

BILLING CODE 6560-50-P